FEDERAL COMMUNICATIONS COMMISSION

Notice of Public Information Collection(s) Being Reviewed by the Federal Communications Commission

May 7, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 14, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0799.

Title: FCC Ownership Disclosure Information for the Wireless Telecommunications Services.

Form No: FCC Form 602.

Type of Review: Revision of a currently approved collection.

Respondents: Business or other for-profit, not-for-profit institutions, and state, local and tribal government.

Number of Respondents: 3,000.

Estimated Time Per Response: 1.5 hours.

Frequency of Response: On occasion reporting requirement and third party disclosure requirement.

Total Annual Burden: 3,000 hours.

Total Annual Cost: $450,000.

Privacy Act Impact Assessment: Not applicable.

Needs and Uses: The purpose of this information collection is to obtain the identity of the applicant and to elicit information required by Section 1.2112 of the Commission's rules regarding: (1) persons or entities holding a 10% or greater direct or indirect ownership interest in the applicant; (2) all affiliates of the applicant pursuant to Section 1.2110; (3) all general partners in any general partnership in the applicant's chain of ownership; and (4) all the members of any limited liability corporation in the applicant's chain of ownership. The use of the FCC Form 602 has replaced FCC Form 430 for wireless services. The Commission has revised the FCC Form 602 to request additional information concerning if it's a proposed filing or a current filing along with clarification to the instructions.

Federal Communications Commission.
Marlene H. Dortch,
Secretary.

[FR Doc. 04-11011 Filed 5-13-04; 8:45 am]

BILLING CODE 6712-01-P